ENVIRONMENTAL PROTECTION AGENCY

[FRL-7783-8]

Notice of Intent To Re-Evaluate the Aquatic Life Ambient Water Quality Criteria for Ammonia

AGENCY: Environmental Protection Agency.

ACTION: Request for data and information.

SUMMARY: Section 304(a) of the Clean Water Act (CWA) authorizes the U.S. Environmental Protection Agency (EPA) to develop and publish, and from time to time revise, criteria recommendations for water accurately reflecting the latest scientific knowledge. Today, EPA is notifying the public of its intent to re-evaluate the current aquatic life criteria for ammonia to determine if a revision is warranted based on new toxicity data for aquatic organisms. EPA is also soliciting any additional pertinent toxicity data or information that may be useful in re-evaluating these criteria.

DATES: Submit data and information on or before August 9, 2004.

ADDRESSES: Data and information may be submitted electronically, by mail, or through hand deliver/courier. Follow the detailed instructions as provided in Unit I.B. of the SUPPLEMENTARY INFORMATION section.

FOR FURTHER INFORMATION CONTACT: Amie Howell, U.S. Environmental Protection Agency, Office of Water, Health and Ecological Criteria Division (4304T), 1200 Pennsylvania Avenue, NW., Washington, DC 20460. (202) 566-1143. howell.amie@epa.gov.

SUPPLEMENTARY INFORMATION:

I. General Information

A. How Can I Get Copies of Related Information?

1. Docket. EPA has established an public docket for this action under Docket ID No. OW-2004-0012. The official public docket consists of the documents specifically referenced in this action, any data received, and other information related to this action. Although a part of the public docket, the public docket does not include Confidential Business Information (CBI) or other information whose disclosure is restricted by statute. The public docket is the collection of materials that is available for public viewing at the Water Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view data and information, access the index listing of the contents of the public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.

For additional information about EPA's electronic public docket visit EPA Dockets online or see 67 FR 38102, May 31, 2002.

It is important to note that EPA's policy is that data and information, whether submitted electronically or in paper, will be made available for public viewing in EPA's electronic public docket as EPA receives them and without change, unless the data contain copyrighted material, CBI, or other information whose disclosure is restricted by statute. When EPA identifies copyrighted material, EPA will provide a reference to that material in the version of the document that is placed in EPA's electronic public docket. The entire printed document, including the copyrighted material, will be available in the public docket.

Data and information submitted on computer disks that are mailed or delivered to the docket will be transferred to EPA's electronic public docket. Data and information that are mailed or delivered to the Docket will be scanned and placed in EPA's electronic public docket. Where practical, physical objects will be photographed, and the photograph will be placed in EPA's electronic public docket along with a brief description written by the docket staff.

B. How and To Whom Do I Submit Data and Information?

You may submit data and information electronically, by mail, or through hand delivery/courier. To ensure proper receipt by EPA, identify the appropriate docket identification number in the subject line on the first page of your materials. Please ensure that your materials are submitted within the specified comment period.

1. Electronically. If you submit data and information as prescribed below, EPA recommends that you include your name, mailing address, and an e-mail address or other contact information. Also include this contact information on the outside of any disk or CD ROM you submit, and in any cover letter accompanying the disk or CD ROM. This ensures that you can be identified as the submitter of the data and information and allows EPA to contact you in case EPA cannot read your materials due to technical difficulties or needs further information on the substance of your materials. EPA's policy is that EPA will not edit your materials, and any identifying or contact information provided in the body of a document will be included as part of the materials that is placed in the official public docket, and made available in EPA's electronic public docket. If EPA cannot read your materials due to technical difficulties and cannot contact you for clarification, EPA may not be able to consider your materials.

i. EPA Dockets. Your use of EPA's electronic public docket to submit data and information to EPA electronically is EPA's preferred method for receiving data. Go directly to EPA Dockets at http://www.epa.gov/edocket, and follow the online instructions. Once in the system, select “search,” and then key in Docket ID No. OW-2004-0012. The system is an “anonymous access” system, which means EPA will not know your identity, e-mail address, or other contact information unless you provide it along with your data.

ii. E-mail. Data and information may be sent by electronic mail (e-mail) to ow-docket@epa.gov, Attention Docket ID No. OW-2004-0012. In contrast to EPA's electronic public docket, EPA's e-mail system is not an “anonymous access” system. If you send an e-mail directly to the Docket without going through EPA's electronic public docket, EPA's e-mail system automatically captures your e-mail address. E-mail addresses that are automatically captured by EPA's e-mail system are included as part of the data and information that is placed in the official public docket, and made available in EPA's electronic public docket.

iii. Disk or CD ROM. You may submit data and information on a disk or CD ROM that you mail to the mailing address identified in Unit I.B.2. These electronic submissions will be accepted in WordPerfect or ASCII file format. Avoid the use of special characters and any form of encryption.

2. By Mail. Send an original and three copies of any data or information to: Water Docket, Environmental Protection Agency, Mailcode: 4101T, 1200 Pennsylvania Ave., NW., Washington, DC 20460, Attention Docket ID No. OW-2004-0012.

3. By Hand Delivery or Courier. Deliver your data and information to: EPA Docket Center, (EPA/DC) EPA West, Room B102, 1301 Constitution Ave., NW., Washington, DC 20460, Attention Docket ID No. OW-2004-0012. Such deliveries are only accepted during the Docket's normal hours of operation as identified in Unit I.A.1.

Table of Contents

I. What Are Water Quality Criteria?

II. Why Is EPA Re-Evaluating Its Aquatic Life Ambient Water Quality Criteria for Ammonia?

III. What Type of Information Does EPA Want From the Public?

IV. Where Can I Find More Information on EPA's Revised Process for Developing New or Revised Criteria?

I. What Are Water Quality Criteria?

Section 304(a) of the CWA authorizes the EPA to develop, publish, and from time to time revise criteria recommendations for water that accurately reflect the latest scientific knowledge. Water quality criteria developed under section 304(a) are based solely on data and scientific judgements. They do not consider economic impacts or the technological feasibility of meeting the criteria in ambient water. Section 304(a) criteria recommendations provide a scientific basis to States and tribes for adopting water quality standards. The criteria also provide a scientific basis for EPA to develop water quality standards where appropriate under section 303(c) of the CWA.

II. Why Is EPA Re-Evaluating its Aquatic Life Ambient Water Quality Criteria for Ammonia?

EPA published “Ambient Water Quality Criteria for Ammonia—1984.” Since that time, results of additional toxicity tests on ammonia have been published that could affect the freshwater criterion for ammonia. The Agency published a 1998 Update to revise the 1984/1985 ammonia criteria document by addressing important issues to the extent possible. EPA obtained public comment on the 1998 Update. In response to those comments, EPA modified its criteria recommendations and prepared a 1999 Update. The 1999 Update differed from the 1998 Update primarily in the handling of the temperature-dependency for the chronic criterion (CCC) and, therefore, the formulation of the CCC and the expression of the national criterion.

Today, EPA is notifying the public of its intent to re-evaluate the aquatic life criteria for ammonia to determine if revisions are warranted based on new toxicity data on aquatic organisms. In particular, recent studies on freshwater mussels suggest that some freshwater mussel species may be more sensitive to ammonia exposure than the aquatic organisms considered in deriving the current ammonia criteria.

III. What Type of Information Does EPA Want From the Public?

EPA recently completed a comprehensive review of the available toxicity data for ammonia. The list of pertinent references identified by the Agency for this chemical is available from EPA's electronic public docket under Docket ID No. OW-2004-0012. EPA is soliciting additional pertinent toxicity data or information it might use to re-evaluate the ammonia criteria. In particular, EPA is interested in obtaining from the public any new data, not identified by the Agency's literature review, on the acute or chronic toxicity of ammonia to aquatic life and scientific views on the interpretation of submitted data, particularly new data on the toxicity of ammonia to freshwater mussels. You should adequately document any data you submit. It should also contain enough supporting information to show that acceptable test procedures were used and that the results are reliable. Please refer to the “Guidelines for Deriving Numerical National Water Quality Criteria for the Protection of Aquatic Organisms and Their Uses” (EPA-822-R-85-100, January 1985) for guidance on data suitability. This document may be ordered online from http://yosemite.epa.gov/water/owrccatalog.nsf or is available from EPA's electronic public docket at http://www.epa.gov/edocket/ under Docket ID No. OW-2004-0012.

IV. Where Can I Find More Information on EPA's Revised Process for Developing New or Revised Criteria?

The Agency published detailed information about its revised process for developing and revising criteria in the Federal Register on December 10, 1998 (63 FR 68354), and in the EPA document entitled “National Recommended Water Quality-Correction” (EPA 822-Z-99-001, April 1999). The revised process provides greater opportunities for public input and makes the criteria development process more efficient.

Dated: July 1, 2004.
Geoffrey H. Grubbs,
Director, Office of Science and Technology.

[FR Doc. 04-15532 Filed 7-7-04; 8:45 am]

BILLING CODE 6560-50-P